DEPARTMENT OF DEFENSE

Department of the Army

[Docket ID: USA-2008-0051]

Privacy Act of 1974; System of Records

AGENCY: Department of the Army, DoD.

ACTION: Notice to Add a System of Records.

SUMMARY: The Department of the Army is proposing to add a system of records to its existing inventory of records systems subject to the Privacy Act of 1974, (5 U.S.C. 552a), as amended.

DATES: The proposed action will be effective on September 11, 2008 unless comments are received that would result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on July 28, 2008, to the House Committee on Oversight and Government Reform, the Senate Committee on Homeland Security and Governmental Affairs, and the Office of Management and Budget (OMB) pursuant to paragraph 4c of Appendix I to OMB Circular No. A-130, `Federal Agency Responsibilities for Maintaining Records About Individuals', dated February 8, 1996 (February 20, 1996, 61 FR 6427).

Dated: August 1, 2008.
Patricia L. Toppings,
OSD Federal Register Liaison Officer, Department of Defense.

A0215c FMWRC

System Name:

Learning Management System (MWR-LMS).

System Location:

Cogent Communications, 510 Huntmar Park Dr, Herndon, VA 20170-5100.

Categories of Individuals Covered by the System:

Department of Army employees and contractor personnel receiving training funded or sponsored by the Army. Department of Defense military personnel employees and contractor personnel receiving training funded or sponsored by the Army. Coast Guard and non-appropriated fund personnel may be included in the system.

Categories of Records in the System:

Name; Social Security Number (SSN); date of birth, addresses; occupational series, grade, and supervisory status; registration and training data, including application or nomination documents, pre- and post-test results, student progress data, start and completion dates, and course descriptions.

Authority for Maintenance of the System

10 U.S.C. 3013, Secretary of the Army; 26 U.S.C. 6041, Information at Source; DoD Directive 1015.2, Military Morale, Welfare and Recreation (MWR); The Government Employees Training Action of 1958 (U.S. Code, Title 5, Section 4101 to 4118); DoD Instruction 1015.10, Program for Military Morale, Welfare and Recreation (MWR); Army Regulation 215-1, Morale, Welfare and Recreations Activities and Non-appropriated Fund Instrumentalities; Army Regulation 215-3, Nonappropriated Fund Personnel Policy; Army Regulation 215-4, Nonappropriated Fund Contracting; Army Regulation, 608-10 Child Development Services; and E.O. 9397 (SSN).

Purpose(s):

To provide central registration, course enrollment, web-based learning, a career management tool, and a range of performance support tools. It provides anywhere, anytime training to employees worldwide.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

To Federal, state, and local agencies and oversight entities to track, manage, and report on mandatory training requirements and certifications.

To public and private sector educational, training, and conferencing entities for participant enrollment, tracking, evaluation, and payment reconciliation purposes.

To Federal agencies for screening and selecting candidates for training or developmental programs sponsored by the agency.

The “Blanket Routine Uses” set forth at the beginning of the Army's compilation of systems of records notices also apply to this system.

Policies and Practices for Storing, Retrieving, Accessing, Retaining, and Disposing of Records in the System:

Storage:

Paper records in file folders and electronic storage media.

Retrievability:

Automated records may be retrieved by Social Security Number, name, logon identification, password, or by a combination of these data elements. Manual records are retrieved by employee last name or Social Security.

Safeguards:

Data is encrypted and password protected. The system is only accessible to registered users by access through login and password that is activated upon registration. Registrants must click the activation e-mail in order to activate their login.

Retention and Disposal:

Transcript and training records on individual users are kept active to provide official transcript records to students. Student transcript records are kept active for 10 years.

System managers(s) and Address:

FMWRC, Family and Morale Welfare Recreation Center Workforce Development, Morale Welfare Recreation (MWR) Academy, 5285 Shawnee Road, Suite 200, Alexandria, VA 22312-2328.

Notification Procedures:

Individuals seeking to determine whether information about themselves is contained in this system should address written inquiries to the Morale Welfare Recreation (MWR) Academy at 5285 Shawnee Road, Suite 200, Alexandria, VA 22312-2328.

Individuals must provide name, rank, Social Security Number (SSN), proof of identification, and any other pertinent information necessary.

Record Access Procedures:

Individuals seeking access to information about themselves contained in this system should address written inquiries to the Morale Welfare Recreation (MWR) Academy at 5285 Shawnee Road, Suite 200, Alexandria, VA 22312-2328.

Individuals must provide name, rank, Social Security Number (SSN), proof of identification, and any other pertinent information necessary.

Contesting Record Procedures:

The Army's rules for accessing records, and for contesting contents and appealing initial agency determinations are contained in Army Regulation 340-21; 32 CFR part 505; or may be obtained from the system manager.

Record Source Categories:

Student input, classroom instructors, system administrators/instructors.

Exemptions Claimed for the System:

None.

[FR Doc. E8-18589 Filed 8-11-08; 8:45 am]

BILLING CODE 5001-06-P